DEPARTMENT OF ENERGY

Office of Energy Efficiency and Renewable Energy

Wind and Water Power Technologies Office

AGENCY: Office of Energy Efficiency and Renewable Energy, Department of Energy.

ACTION: Notice of External Merit Review Meeting for the Atmosphere to Electrons Initiative.

SUMMARY: The Atmosphere to Electrons (A2e) Initiative within the U.S. Department of Energy's (DOE) Office of Energy Efficiency and Renewable Energy intends to hold an External Merit Review in Washington, DC, on February 4-5, 2014. The External Review Panel will review the current program planning and provide suggestion on the formulation of A2e strategy, goals and implementation approaches. The review panel will also assess the initiative's potential impact on the wind power industry and identify additional research initiatives and resources that might be required in the future.

DATES: DOE will hold the External Merit Review on Tuesday, February 4, from 8:30 a.m.-5:00 p.m., and Wednesday, February 5, from 8:30 a.m.-12:00 p.m.

ADDRESSES: The public meeting will be held at the Washington Marriott at Metro Center, 775 12th Street NW., Washington, DC, 20005.

You may submit comments, identified by any of the following methods:

• Email: [samantha.rooney@nrel.gov]. Include “A2e External Merit Review” in the subject line of the message.

• Postal Mail: [Samantha Rooney, 15013 Denver West Parkway, MS 3811, Golden CO, 80401] Due to the potential delays in DOE's receipt and processing of mail sent through the U.S. Postal Service, DOE encourages respondents to submit comments electronically to ensure timely receipt.

FOR FURTHER INFORMATION CONTACT: Michael Derby, EERE, U.S. Department of Energy, 1000 Independence Avenue SW., Washington, DC 20585. Telephone: (202) 586-6830. Email: michael.derby@ee.doe.gov.

SUPPLEMENTARY INFORMATION:

Background

Atmosphere to Electrons (A2e) is a multi-year Department of Energy (DOE) research initiative targeting significant reductions in the cost of wind energy through an improved understanding of the complex physics of the wind resource and interaction with wind farms. Better insight into the flow physics and resource forecasting has the potential to increase wind farm energy capture, reduce annual operational costs, and improve project financing. Achieving these objectives requires a diverse set of expertise and significant R&D resources. The Wind and Water Power Technologies Office (WWPTO) has selected subject matter experts from its national laboratories at NREL, SNL, and PNNL to assist in the integrated program planning for the initiative based on DOE investments in world class computational and testing facilities as well as core expertise in topics critical to the success of the A2e initiative available at these laboratories. These national laboratories are engaging the wider wind energy stakeholder community (e.g., industry, other national labs, other government agencies, universities, international partners) to develop a multi-year strategic plan that addresses wind plant performance under the A2e initiative.

Public Participation

The event is open to the public based upon space availability. DOE will also accept public comments as described above for purposes of developing the A2e portfolio, but will not respond individually to comments received.

Participants should limit information and comments to those based on personal experience, individual advice, information, or facts regarding this topic. It is not the object of this session to obtain any group position or consensus from the meeting participants. To most effectively use the limited time, please refrain from passing judgment on another participant's recommendations or advice, and instead, concentrate on your individual experiences.

Following the meeting a summary will be compiled by DOE and posted for public comment. For those interested in providing additional public comment, the summary will be posted at wind.energy.gov.

Information on Services for Individuals With Disabilities

Individuals requiring special accommodations at the meeting, please contact Samantha Rooney no later than the close of business on February 3, 2014.

Issued in Washington, DC, on January 30, 2014.
Jose Zayas,
Director, Wind and Water Power Technologies Office, U.S. Department of Energy.

[FR Doc. 2014-02309 Filed 2-5-14; 8:45 am]

BILLING CODE 6450-01-P